DEPARTMENT OF HEALTH AND HUMAN SERVICES

Agency for Toxic Substances and Disease Registry

[ATSDR-259]

Proposed Substances To Be Evaluated for Set 24 Toxicological Profiles

AGENCY: Agency for Toxic Substances and Disease Registry (ATSDR), Department of Health and Human Services (HHS).

ACTION: Request for comments on the proposed substances to be evaluated for Set 24 toxicological profiles.

SUMMARY: This notice announces the list of proposed substances that will be evaluated for Comprehensive Environmental Response, Compensation, and Liability Act of 1980 (CERCLA) Set 24 toxicological profile development. ATSDR's Division of Toxicology and Environmental Medicine is soliciting public comments on the list of proposed substances to be evaluated for toxicological profile development. ATSDR also will consider the nomination of any additional, substances, not on this list, that may have public health implications.

DATES: Nominations must be submitted within 30 days of the publication of this notice.

ADDRESSES: Nominations may be submitted electronically. Refer to the section Submission of Nominations (following) for the specific address.

FOR FURTHER INFORMATION CONTACT: For further information, contact: Commander Jessilynn B. Taylor, Division of Toxicology and Environmental Medicine, Agency for Toxic Substances and Disease Registry, 1600 Clifton Road, F-62, Atlanta, GA, 30333; telephone: (770) 488-3313; or e-mail: jbtaylor@cdc.gov.

SUPPLEMENTARY INFORMATION: The Superfund Amendments and Reauthorization Act of 1986 (SARA) [42 U.S.C. 9601 et seq.] amended the CERCLA (or Superfund) [42 U.S.C. 9601 et seq.] by establishing certain requirements for ATSDR and the U.S. Environmental Protection Agency (EPA) with regard to hazardous substances most commonly found at facilities on the CERCLA NPL. Among these statutory requirements is a mandate for the Administrator of ATSDR to prepare toxicological profiles for each substance included on the Priority List of Hazardous Substances. This identifies 275 hazardous substances that ATSDR and EPA have determined pose the most significant potential threat to human health (http://www.atsdr.cdc.gov/cercla/07list.html). The availability of the revised list of the 275 priority substances was announced in the Federal Register on March 6, 2008 (73 FR 12178). For prior versions of the list of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744; November 17, 1997 (62 FR 61332); October 21, 1999 (64 FR 56792); October 25, 2001 (66 FR 54014); and November 7, 2003 (68 FR 63098), December 7, 2005 (70 FR 72840).

Proposed Substances To Be Evaluated for Set 24 Toxicological Profiles

Each year, ATSDR develops a list of substances to be considered for toxicological profile development. This list is compiled from ATSDR's Priority List of Hazardous Substances and from previously nominated substances of public health concern. The following list of 240 proposed substances will be considered for Set 24 Toxicological Profile development.

| Substances | CAS Nos.
1 | METHANE | 000074-82-8
2 | BROMODICHLOROETHANE | 000683-53-4
3 | 1,2,3-TRICHLOROBENZENE | 000087-61-6
4 | POLONIUM-210 | 013981-52-7
5 | LEAD-210 | 014255-04-0
6 | NEPTUNIUM-237 | 013994-20-2
7 | S,S,S-TRIBUTYL PHOSPHOROTRITHIOATE | 000078-48-8
8 | BROMINE | 007726-95-6
9 | DICOLFOL | 000115-32-2
10 | PARATHIION | 000056-38-2
11 | TRICHLOROFLUOROETHANE | 027154-33-2
12 | TRIFLURALIN | 000152-09-8
13 | PENTACHLOROBENZENE | 000608-93-5
14 | TRICHLOROETHANE | 025323-89-1
15 | PALLADIUM | 007440-05-3
16 | DIBENZOFURAN | 000132-64-9
17 | 2,4-DIMETHYLPHENOL | 000105-67-9
18 | TETRACHLOROETHANE | 025322-20-7
19 | BIS(2-METHOXYETHYL)PHTHALATE | 034006-76-3
20 | BUTYL BENZYL PHTHALATE | 000085-68-7
21 | 1,2,4-TRICHLOROBENZENE | 000120-82-1
22 | NITRITE | 014797-65-0
23 | NITRATE | 014797-55-8
24 | POTASSIUM-40 | 013966-00-2
25 | THORIUM-227 | 015623-47-9
26 | PHORATE | 000298-02-2
27 | DIMETHOATE | 000060-51-5
28 | ACTINIUM-227 | 014952-40-0
29 | STROBANE | 008001-50-1
30 | 4-AMINOBIPHENYL | 000092-67-1
31 | ARSINE | 007784-42-1
32 | NALED | 000300-76-5
33 | ETHOPROP | 013194-48-4
34 | CARBOPHENOTHION | 000786-19-6
35 | 2,4-D ACID | 000094-75-7
36 | DIURON | 000330-54-1
37 | BUTYLATE | 002008-41-5
38 | DIMETHYL FORMAMIDE | 000068-12-2
39 | DICHLOROBENZENE | 025321-22-6
40 | ETHYL ETHER | 000060-29-7
41 | DICHLOROETHANE | 001300-21-6
42 | PHOSPHINE | 007803-51-2
43 | TRICHLOROBENZENE | 012002-48-1
44 | PENTAERYTHRITOL TETRANITRATE | 000078-11-5
45 | BIS(2-ETHYLHEXYL)ADIPATE | 000103-23-1
46 | CARBAZOLE | 000086-74-8
47 | METHYL ISOBUTYL KETONE | 000108-10-1
48 | CARBARYL | 000063-25-2
49 | MERCURY | 007439-97-6
50 | METHYLMERCURY | 022967-92-6
51 | MERCURIC CHLORIDE | 007487-94-7
52 | POLYCHLORINATED BIPHENYLS | 001336-36-3
53 | AROCLOR 1254 | 011097-69-1
54 | AROCLOR 1260 | 011096-82-5
55 | AROCLOR 1248 | 012672-29-6
56 | AROCLOR 1242 | 053469-21-9
57 | AROCLOR | 012767-79-2
58 | AROCLOR 1221 | 011104-28-2
59 | AROCLOR 1016 | 012674-11-2
60 | AROCLOR 1232 | 011141-16-5
61 | AROCLOR 1240 | 071328-89-7
62 | TETRACHLOROBIPHENYL | 026914-33-0
63 | POLYCYCLIC AROMATIC HYDROCARBONS | 130498-29-2
64 | BENZO(A)PYRENE | 000050-32-8
65 | BENZO(B)FLUORANTHENE | 000205-99-2
66 | DIBENZO(A,H)ANTHRACENE | 000053-70-3
67 | BENZO(A)ANTHRACENE | 000056-55-3
68 | BENZO(K)FLUORANTHENE | 000207-08-9
69 | BENZOFLUORANTHENE | 056832-73-6
70 | FLUORANTHENE | 000206-44-0
71 | CHRYSENE | 000218-01-9
72 | ACENAPHTHENE | 000083-32-9
73 | INDENO(1,2,3-CD)PYRENE | 000193-39-5
74 | BENZOPYRENE | 073467-76-2
75 | PHENANTHRENE | 000085-01-8
76 | PYRENE | 000129-00-0
77 | FLUORENE | 000086-73-7
78 | ANTHRACENE | 000120-12-7
79 | BENZO(A)FLUORANTHENE | 000203-33-8
80 | BENZO(GHI)PERYLENE | 000191-24-2
81 | ACENAPHTHYLENE | 000208-96-8
82 | BENZO(J)FLUORANTHENE | 000205-82-3
83 | BENZO(E)PYRENE | 000192-97-2
84 | BENZOPERYLENE | 011057-45-7
85 | BENZO(B)ANTHRACENE | 000092-24-0
86 | DIBENZ(A,J)ANTHRACENE | 000224-41-9
87 | BENZO(GHI)FLUORANTHENE | 000203-12-3
88 | 1-METHYLPYRENE | 002381-21-7
89 | CHLOROFORM | 000067-66-3
90 | DDT, P,P′- | 000050-29-3
91 | DDE, P,P′- | 000072-55-9
92 | DDD, P,P′- | 000072-54-8
93 | DDT, O,P′- | 000789-02-6
94 | DDD, O,P′- | 000053-19-0
95 | DDE, O,P′- | 003424-82-6
96 | TRICHLOROETHYLENE | 000079-01-6
97 | DIELDRIN | 000060-57-1
98 | ALDRIN | 000309-00-2
99 | CHLORDANE | 000057-74-9
100 | CIS-CHLORDANE | 005103-71-9
101 | TRANS-CHLORDANE | 005103-74-2
102 | OXYCHLORDANE | 027304-13-8
103 | GAMMA-CHLORDENE | 056641-38-4
104 | CHLORDANE, TECHNICAL | 012789-03-6
105 | ALPHA-CHLORDENE | 056534-02-2
106 | NONACHLOR, TRANS- | 039765-80-5
107 | NONACHLOR, CIS- | 005103-73-1
108 | CHLORDENE | 003734-48-3
109 | HEXACHLOROBUTADIENE | 000087-68-3
110 | COAL TAR CREOSOTE | 008001-58-9
111 | COAL TARS | 008007-45-2
112 | DDD, P,P′- | 000072-54-8
113 | COAL TAR PITCH | 065996-93-2
114 | BENZIDINE | 000092-87-5
115 | TOXAPHENE | 008001-35-2
116 | TETRACHLOROETHYLENE | 000127-18-4
117 | 1,2-DIBROMOETHANE | 000106-93-4
118 | DISULFOTON | 000298-04-4
119 | 3,3′-DICHLOROBENZIDINE | 000091-94-1
120 | ENDRIN | 000072-20-8
121 | ENDRIN KETONE | 053494-70-5
122 | ENDRIN ALDEHYDE | 007421-93-4
123 | BERYLLIUM | 007440-41-7
124 | 1,2-DIBROMO-3-CHLOROPROPANE | 000096-12-8
125 | DIBROMOCHLOROPROPANE | 067708-83-2
126 | PENTACHLOROPHENOL | 000087-86-5
127 | DI-N-BUTYL PHTHALATE | 000084-74-2
128 | ENDOSULFAN | 000115-29-7
129 | ENDOSULFAN SULFATE | 001031-07-8
130 | ENDOSULFAN, ALPHA | 000959-98-8
131 | ENDOSULFAN, BETA | 033213-65-9
132 | METHOXYCHLOR | 000072-43-5
133 | METHANE | 000074-82-8
134 | TOLUENE | 000108-88-3
135 | 2-HEXANONE | 000591-78-6
136 | 2,3,7,8-TETRACHLORODIBENZO-P-DIOXIN | 001746-01-6
137 | HEXACHLORODIBENZO-P-DIOXIN | 034465-46-8
138 | HEPTACHLORODIBENZO-P-DIOXIN | 037871-00-4
139 | TETRACHLORODIBENZO-P-DIOXIN | 041903-57-5
140 | PENTACHLORODIBENZO-P-DIOXIN | 036088-22-9
141 | 1,2,3,4,6,7,8-HEPTACHLORODIBENZO-P-DIOXIN | 035822-46-9
142 | OCTACHLORODIBENZO-P-DIOXIN | 003268-87-9
143 | 1,2,3,6,7,8-HEXACHLORODIBENZO-P-DIOXIN | 057653-85-7
144 | 1,2,3,4,7,8-HEXACHLORODIBENZO-P-DIOXIN | 039227-28-6
145 | 1,2,3,7,8,9-HEXACHLORODIBENZO-P-DIOXIN | 019408-74-3
146 | 1,2,3,7,8-PENTACHLORODIBENZO-P-DIOXIN | 040321-76-4
147 | DI(2-ETHYLHEXYL)PHTHALATE | 000117-81-7
148 | 1,1-DICHLOROETHENE | 000075-35-4
149 | METHYLENE CHLORIDE | 000075-09-2
150 | BROMODICHLOROETHANE | 000683-53-4
151 | 1,2-DICHLOROETHANE | 000107-06-2
152 | 2,4,6-TRICHLOROPHENOL | 000088-06-2
153 | TETRACHLOROPHENOL | 025167-83-3
154 | 2,4-DICHLOROPHENOL | 000120-83-2
155 | 2,4,5-TRICHLOROPHENOL | 000095-95-4
156 | 2-CHLOROPHENOL | 000095-57-8
157 | 2,3,4,5-TETRACHLOROPHENOL | 004901-51-3
158 | 2,3,5,6-TETRACHLOROPHENOL | 000935-95-5
159 | 2,3,4,6-TETRACHLOROPHENOL | 000058-90-2
160 | 4-CHLOROPHENOL | 000106-48-9
161 | CHLOROPHENOL | 025167-80-0
162 | 2,4-DINITROPHENOL | 000051-28-5
163 | BIS(2-CHLOROETHYL) ETHER | 000111-44-4
164 | ASBESTOS | 001332-21-4
165 | CHRYSOTILE ASBESTOS | 012001-29-5
166 | AMOSITE ASBESTOS | 012172-73-5
167 | HEXACHLOROBENZENE | 000118-74-1
168 | 2,4-DINITROTOLUENE | 000121-14-2
169 | DINITROTOLUENE | 025321-14-6
170 | 2,6-DINITROTOLUENE | 000606-20-2
171 | RADIUM-226 | 013982-63-3
172 | RADIUM | 007440-14-4
173 | RADIUM-228 | 015262-20-1
174 | RADIUM-224 | 013233-32-4
175 | ETHION | 000563-12-2
176 | THORIUM | 007440-29-1
177 | THORIUM-230 | 014269-63-7
178 | THORIUM-228 | 014274-82-9
179 | 4,6-DINITRO-O-CRESOL | 000534-52-1
180 | CHLOROBENZENE | 000108-90-7
181 | N-NITROSODI-N-PROPYLAMINE | 000621-64-7
182 | 1,2,3-TRICHLOROBENZENE | 000087-61-6
183 | POLONIUM-210 | 013981-52-7
184 | CHLORPYRIFOS | 002921-88-2
185 | NEPTUNIUM-237 | 013994-20-2
186 | CHLORDECONE | 000143-50-0
187 | MIREX | 002385-85-5
188 | S,S,S-TRIBUTYL PHOSPHOROTRITHIOATE | 000078-48-8
189 | BROMINE | 007726-95-6
190 | DICOFOL | 000115-32-2
191 | PARATHION | 000056-38-2
192 | SELENIUM | 007782-49-2
193 | TRICHLOROFLUOROETHANE | 027154-33-2
194 | TRIFLURALIN | 001582-09-8
195 | 4,4'-METHYLENEBIS(2-CHLOROANILINE) | 000101-14-4
196 | PENTACHLOROBENZENE | 000608-93-5
197 | 1,1-DICHLOROETHANE | 000075-34-3
198 | 1,2,3,4,6,7,8,9-OCTACHLORODIBENZOFURAN | 039001-02-0
199 | HEPTACHLORODIBENZOFURAN | 038998-75-3
200 | 2,3,4,7,8-PENTACHLORODIBENZOFURAN | 057117-31-4
201 | HEXACHLORODIBENZOFURAN | 055684-94-1
202 | PENTACHLORODIBENZOFURAN | 030402-15-4
203 | 2,3,7,8-TETRACHLORODIBENZOFURAN | 051207-31-9
204 | DIBENZOFURANS, CHLORINATED | 042934-53-2
205 | 1,2,3,4,6,7,8-HEPTACHLORODIBENZOFURAN | 067562-39-4
206 | 1,2,3,7,8,9-HEXACHLORODIBENZOFURAN | 072918-21-9
207 | TETRACHLORODIBENZOFURAN | 030402-14-3
208 | 1,2,3,6,7,8-HEXACHLORODIBENZOFURAN | 057117-44-9
209 | 1,2,3,4,7,8-HEXACHLORODIBENZOFURAN | 070648-26-9
210 | 2,3,4,6,7,8-HEXACHLORODIBENZOFURAN | 060851-34-5
211 | 1,2,3,7,8-PENTACHLORODIBENZOFURAN | 057117-41-6
212 | 1,2,3,4,7,8,9-HEPTACHLORODIBENZOFURAN | 055673-89-7
213 | 1,1,2-TRICHLOROETHANE | 000079-00-5
214 | HEXACHLOROCYCLOPENTADIENE | 000077-47-4
215 | 1,2-DIPHENYLHYDRAZINE | 000122-66-7
216 | 1,2-DICHLOROETHENE, TRANS- | 000156-60-5
217 | 1,2-DICHLOROETHYLENE | 000540-59-0
218 | 1,2-DICHLOROETHENE, CIS- | 000156-59-2
219 | CARBON DISULFIDE | 000075-15-0
220 | PALLADIUM | 007440-05-3
221 | CHLOROETHANE | 000075-00-3
222 | ACETONE | 000067-64-1
223 | DIBENZOFURAN | 000132-64-9
224 | 2,4-DIMETHYLPHENOL | 000105-67-9
225 | CHLOROMETHANE | 000074-87-3
226 | BIS(2-METHOXYETHYL) PHTHALATE | 034006-76-3
227 | BUTYL BENZYL PHTHALATE | 000085-68-7
228 | N-NITROSODIMETHYLAMINE | 000062-75-9
229 | 1,2,4-TRICHLOROBENZENE | 000120-82-1
230 | N-NITROSODIPHENYLAMINE | 000086-30-6
231 | 2-BUTANONE | 000078-93-3
232 | FLUORINE | 007782-41-4
233 | HYDROGEN FLUORIDE | 007664-39-3
234 | FLUORIDE ION | 016984-48-8
235 | AMMONIA | 007664-41-7
236 | COPPER | 065357-62-2
237 | CHLORINE DIOXIDE | 010049-04-4
238 | PBBs | 059536-65-1
239 | PBDEs | 001163-19-5
240 | SYNTHETIC VITREOUS FIBERS | NONE

Submission of Nominations for the Evaluation Set 24 Proposed Substances: Today's notice also invites voluntary public nominations for substances not listed in this notice. Nominations are most useful if they include the nominator, including full name, title, affiliation, e-mail address, and telephone number.

ATSDR will evaluate all data and information associated with nominated substances and will determine the final list of substances to be chosen for toxicological profile development. Substances will be chosen according to ATSDR's specific guidelines for selection, found in the Selection Criteria announced in the Federal Register on May 7, 1993 (87 FR 27288).

Submission of Comments: Submit comments via e-mail at: tpcandidatecomments@cdc.gov. Please include “Set 24” in the subject line of the e-mail. Or, mail to: Commander Jessilynn B. Taylor, Division of Toxicology and Environmental Medicine, 1600 Clifton Road, MS F-62, Atlanta, GA 30333; e-mail: jbtaylor@cdc.gov.

Please ensure that your comments are submitted within the specified nomination period. Nominations received after the closing date will be marked as late and may be considered only if time and resources permit.

Dated: March 26, 2010.
Ken Rose,
Associate Director, Office of Policy, Planning and Evaluation, National Center for Environmental Health/Agency for Toxic Substances and Disease Registry.

[FR Doc. 2010-7169 Filed 3-30-10; 8:45 am]

BILLING CODE 4163-70-P